DEPARTMENT OF COMMERCE

International Trade Administration

19 CFR Part 351

Antidumping and Countervailing Duties

CFR Correction

In Title 19 of the Code of Federal Regulations, part 200 to end, revised as of April 1, 2006, on page 225, § 351.218 is corrected by removing and reserving paragraph (d)(2)(iii).

[FR Doc. 06-55530 Filed 11-24-06; 8:45 am]

BILLING CODE 1505-01-D